DEPARTMENT OF LABOR

Employment and Training Administration

[TA-W-57,508]

Deball, Inc., Olney Wallcoverings, Asheville, NC; Amended Certification Regarding Eligibility to Apply for Worker Adjustment Assistance and Alternative Trade Adjustment Assistance

In accordance with Section 223 of the Trade Act of 1974 (19 U.S.C. 2273), and Section 246 of the Trade Act of 1974, (26 U.S.C. 2813), as amended, the Department of Labor issued a Certification of Eligibility to Apply for Worker Adjustment Assistance and Alternative Trade Adjustment Assistance on July 11, 2005, applicable to workers of DeBall, Inc., Asheville, North Carolina. The notice will be published soon in the Federal Register.

At the request of the company, the Department reviewed the certification for workers of the subject firm. The workers were engaged in the production of velvet and velour.

New information shows that that all workers separated from employment at the subject firm had their wages reported under a separate unemployment insurance (UI) tax account for Olney Wallcoverings.

Accordingly, the Department is amending the certification to properly reflect this matter.

The intent of the Department's certification is to include all workers of DeBall, Inc., Asheville, North Carolina who was adversely affected by a shift in production to Canada.

The amended notice applicable to TA-W-57,508 is hereby issued as follows:

All workers of DeBall, Inc., Olney Wallcoverings, Asheville, North Carolina, who became totally or partially separated from employment on or after July 6, 2004, through July 11, 2007, are eligible to apply for adjustment assistance under Section 223 of the Trade Act of 1974, and are also eligible to apply for alternative trade adjustment assistance under Section 246 of the Trade Act of 1974.

Signed at Washington, DC, this 23rd day of August, 2005.
Elliott S. Kushner,
Certifying Officer, Division of Trade Adjustment Assistance.

[FR Doc. E5-4778 Filed 8-31-05; 8:45 am]

BILLING CODE 4510-30-P